DEPARTMENT OF EDUCATION

Notice of Proposed Information Collection Requests

AGENCY: Department of Education.

ACTION: Correction Notice.

SUMMARY: On March 23, 2001, a 60-day notice inviting comment from the public was published for the Free Application for Federal Student Aid (FAFSA) in the Federal Register (Volume 66, Number 57) dated March 23, 2001. However, the end date for public comment and the requested OMB approval should have stated April 22, 2001. The public has until April 22, 2001 to provide comments concerning this information collection request. The Leader, Regulatory Information Management, Office of the Chief Information Officer, hereby issues a correction notice on the submission for OMB review as required by the Paperwork Reduction Act of 1995.

DATES: Interested persons are invited to submit comments on or before April 22, 2001.

ADDRESSES: Written comments should be addressed to the Office of Information and Regulatory Affairs, Attention: Lauren Wittenberg, Acting Desk Officer, Department of Education, Office of Management and Budget, 725 17th Street, NW., Room 10235, New Executive Office Building, Washington, DC 20503 or should be electronically mailed to the internet address LAUREN_WITTENBERG@OMB. EOP.GOV.

Requests for copies of the proposed information collection request may be accessed from http://edicsweb.ed.gov, or should be addressed to Vivian Reese, Department of Education, 400 Maryland Avenue, SW, Room 5624, Regional Office Building 3, Washington, DC 20202-4651 or should be electronically mailed to the internet address OCIO_IMB_ Issues@ed.gov, or should be faxed to 202-708-9346.

FOR FURTHER INFORMATION CONTACT: Joseph Schubart at his internet address Joe_Schubart@ed.gov.

Dated: March 23, 2001.
John Tressler,
Leader, Regulatory Information Management Group, Office of the Chief Information Officer.

[FR Doc. 01-7723 Filed 3-28-01; 8:45 am]

BILLING CODE 4000-01-P